DEPARTMENT OF EDUCATION

[Docket No.: ED-2023-SCC-0097]

Agency Information Collection Activities; Comment Request; Efficacy Evaluation of the Mathematics Intervention Toolkit for the Elementary Grades

AGENCY: Institute of Education Sciences (IES), Department of Education (ED).

ACTION: Notice.

SUMMARY: In accordance with the Paperwork Reduction Act (PRA) of 1995, the Department is proposing a new information collection request (ICR).

DATES: Interested persons are invited to submit comments on or before August 7, 2023.

ADDRESSES: To access and review all the documents related to the information collection listed in this notice, please use http://www.regulations.gov by searching the Docket ID number ED-2023-SCC-0097. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 6W203, Washington, DC 20202-8240.

FOR FURTHER INFORMATION CONTACT: For specific questions related to collection activities, please contact Janelle Sands, 202-245-6786.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Efficacy Evaluation of the Mathematics Intervention Toolkit for the Elementary Grades.

OMB Control Number: 1850-NEW.

Type of Review: A new ICR.

Respondents/Affected Public: Individuals and Households.

Total Estimated Number of Annual Responses: 9,630.

Total Estimated Number of Annual Burden Hours: 3,106.

Abstract: The U.S. Department of Education (ED) requests OMB clearance for data collection related to the Regional Educational Laboratory (REL) program. ED, in consultation with REL Northeast and the Islands (REL-NEI) under contract 91990022C0013 has planned a study of the efficacy of a professional development (PD) course for fourth and fifth grade math intervention teachers in the state of Massachusetts. Researchers at WestEd will carry out a school-level randomized controlled trial (RCT) to evaluate the efficacy of the PD course and investigate how and whether the PD course is helping teachers improve their practices and boost student learning. OMB approval is being requested for REL-NEI's data collection for this project, including pre and post measures of student skills and attitudes, and teacher knowledge, beliefs, and feedback regarding instructional practice and implementation of the PD course.

Elementary math achievement is a topic of national concern. Students who leave elementary school with a strong foundation in mathematics, particularly fractions, are better prepared to succeed in middle school mathematics and algebra. Algebra is a well-documented gatekeeper to advanced high school math coursework, which is consistently linked to increased post-secondary opportunities and earnings. On the 2019 NAEP report card, only 41% of grade 4 students scored Proficient or above in math, and these numbers are lower for students from marginalized backgrounds. These opportunity gaps persist at the secondary level, so need to be addressed as soon as they appear.

Given this need, district leaders in Massachusetts are seeking ways to bolster learning for students who struggle with mathematics. Some of these approaches adopted by districts target core instruction, but districts are also interested in strengthening their approaches to intervention. Together with the Massachusetts Partnership to Support Student Learning Through Math Intervention, REL-NEI is designing a toolkit PD course to build educators' knowledge of and ability to implement the recommendations of a new What Works Clearinghouse (WWC) Practice Guide, Assisting Students Struggling with Mathematics: Intervention in the Elementary Grades. By using the PD course's extensive resources, districts will be able to provide teachers with in-depth PD on the recommendations and how to implement them by using specific instructional practices. Teachers will learn to use these practices effectively, helping them to optimize intervention time to improve student learning. Their students will be actively engaged in doing math, communicating their ideas, and progressing toward clear learning goals with feedback and support.

Dated: June 5, 2023.
Juliana Pearson,
PRA Coordinator, Strategic Collections and Clearance, Governance and Strategy Division, Office of Chief Data Officer, Office of Planning, Evaluation and Policy Development.

[FR Doc. 2023-12265 Filed 6-7-23; 8:45 am]

BILLING CODE 4000-01-P